DEPARTMENT OF TRANSPORTATION

Federal Railroad Administration

Environmental Impact Statement for the California High Speed Train Project From Fresno to Bakersfield, CA

AGENCY: Federal Railroad Administration (FRA), Department of Transportation (DOT).

ACTION: Notice of intent to prepare an environmental impact statement.

SUMMARY: The FRA issued a Notice of Intent on March 13, 2009 for the preparation of an Environmental Impact Statement (EIS) and Environmental Impact Report (EIR) with the California High-Speed Rail (Authority) for the Merced-to-Bakersfield section of the Authority's proposed California High-Speed Train (HST) System in compliance with relevant State and Federal laws, in particular the National Environmental Policy Act (NEPA) and the California Environmental Quality Act (CEQA). In that Notice, alternatives involving the alignments and stations located between Merced and Bakersfield were identified. FRA is issuing this Notice to amend the project environmental process for the Merced to Bakersfield section into two separate project EISs.

FRA and the Authority have determined that the environmental effects of the HST System from Merced to Bakersfield are more appropriately assessed in two separate documents; one for Merced to Fresno and another for Fresno to Bakersfield. This Notice amends the environmental process started on March 13, 2009 to instead prepare a Project EIR/EIS for the Fresno to Bakersfield section of the HST System. The decision to complete two separate EIR/EISs was made because the project sections are of sufficient length, with logical termini, allowing for an analysis of environmental matters on a broad scope to ensure that the project will function properly without requiring additional improvements elsewhere; and the assessment of HST alternatives in the Fresno to Bakersfield section will not restrict consideration of alternatives for other transportation improvements.

In 2001, the Authority and FRA started a tiered environmental review process for the HST System and in 2005, completed the first tier California High Speed Train Program EIR/EIS (Statewide Program EIR/EIS) and approved the statewide HST System for intercity travel in California between the major metropolitan centers of Sacramento and the San Francisco Bay Area in the north, through the Central Valley, to Los Angeles and San Diego in the south. The approved HST System would be about 800-miles long, with electric propulsion and steel-wheel-on-steel-rail trains capable of operating speeds of 220 miles per hour (mph) on a dedicated system of fully grade-separated, access-controlled steel tracks with state-of-the-art safety, signaling, communication, and automated train control systems. In approving the HST System, the Authority and FRA also selected corridors/general alignments and station location options throughout most of the system. The Statewide Program EIR/EIS generally selected the Burlington Northern Santa Fe Railroad (BNSF) corridor for the high-speed train route from Fresno to Bakersfield and the Union Pacific Railroad Company (UPRR) corridor was selected through the urban area of Fresno, with stations in downtown Fresno and Bakersfield. The Statewide Program EIR/EIS also stated that the project EIR/EIS for the HST in this portion of the Central Valley would evaluate an alignment around Hanford and a potential station location in the Visalia/Hanford/Tulare area.

The preparation of the Fresno to Bakersfield HST Project EIR/EIS will involve the development of preliminary engineering designs and the assessment of potential environmental effects associated with the construction, operation, and maintenance of the HST System, including track, ancillary facilities and stations, along the preferred alternative corridor from Fresno to Bakersfield with alternative alignments to the east of Hanford.

DATES: FRA and the Authority invite the general public, other government agencies, and all other interested parties to comment on the amended scope and content of the Fresno to Bakersfield HST Project EIR/EIS. FRA and the Authority are soliciting additional oral and written comments, suggestions, and requests for information, and request for public meetings no later than October 30, 2009. These comments will receive equal consideration as comments presented during the March 2009 scoping period for the former Merced to Bakersfield HST Project EIR/EIS.

ADDRESSES: Written comments on the scope should be sent to Ms. Carrie Bowen, Regional Director, ATTN. Fresno to Bakersfield, California High-Speed Rail Authority, 925 L Street, Suite 1425, Sacramento, CA 95814, or via e-mail with subject line “Fresno to Bakersfield HST” to: comments@hsr.ca.gov. Comments may also be provided orally at the same address.

FOR FURTHER INFORMATION CONTACT: Mr. David Valenstein, Environmental Program Manager, Office of Railroad Development, Federal Railroad Administration, 1200 New Jersey Avenue, SE (Mail Stop 20), Washington, DC 20590 (telephone: 202-493-6368); or Ms. Carrie Bowen, Regional Director, ATTN. Fresno to Bakersfield, California High-Speed Rail Authority, 925 L Street, Suite 1425, Sacramento, CA 95814 (telephone: 559-221-2636).

SUPPLEMENTARY INFORMATION: The Authority was established in 1996 and is authorized and directed by statute to undertake the planning and development of a proposed Statewide HST network that is fully coordinated with other public transportation services. The Authority adopted a Final Business Plan in June 2000, which reviewed the economic feasibility of an 800-mile-long HST System capable of operating speeds in excess of 200 miles per hour on a dedicated, fully grade-separated state-of-the-art track. The Authority released an updated Business Plan in November 2008.

The FRA has responsibility for overseeing the safety of railroad operations, including the safety of any proposed high-speed ground transportation system. FRA is also authorized to provide Federal funding for intercity passenger rail capital investments including high-speed rail. For the proposed HST, it is anticipated that FRA would need to take certain regulatory actions prior to operation and may provide financial assistance for the project including grant funds.

In 2005, the Authority and FRA completed a Statewide Program EIR/EIS for the Proposed California High Speed Train System, as the first phase of a tiered environmental review process. The Authority certified the Statewide Program EIR under CEQA and approved the proposed HST System, and FRA issued a Record of Decision under NEPA for the Program EIS. This Statewide Program EIR/EIS established the purpose and need for the HST System, analyzed an HST System, and compared it with a No Project/No Action Alternative and a Modal Alternative. In approving the Statewide Program EIR/EIS, the Authority and FRA selected the HST Alternative, selected certain corridors/general alignments and general station locations for further study, incorporated mitigation strategies and design practices, and specified further measures to guide the development of the HST System during the site-specific project level environmental review to avoid and minimize potential adverse environmental impacts. The Fresno to Bakersfield HST Project EIR/EIS will tier from the Statewide Program EIR/EIS in accordance with Council on Environmental Quality (CEQ) regulations, (40 CFR 1508.28) and State CEQA Guidelines (14 California Code of Regulations 15168(b)). Tiering will ensure that the Fresno to Bakersfield HST Project EIR/EIS builds upon all previous work prepared for, and incorporated in, the Statewide Program EIR/EIS.

The Fresno to Bakersfield HST Project EIR/EIS will describe site-specific environmental impacts, identify specific mitigation measures to address those impacts and incorporate design features to avoid and minimize potential adverse environmental impacts. The FRA and the Authority will assess the site characteristics, size, nature, and timing of the proposed project to determine whether the impacts are potentially significant and whether impacts can be avoided or mitigated. This project EIR/EIS will identify and evaluate reasonable and feasible site specific alternatives, and evaluate the impacts of construction, operation, and maintenance of the HST System. Information and documents regarding this HST environmental review process will be made available through the Authority's Internet site: http://www.cahighspeedrail.gov/.

Purpose and Need: The purpose of the proposed HST System is to provide a new mode of high-speed intercity travel that would link major metropolitan areas of the state; interface with airports, mass transit, and highways; and provide added capacity to meet increases in intercity travel demand in California in a manner sensitive to and protective of California's unique natural resources. The need for a HST System is directly related to the expected growth in population, and increases in intercity travel demand in California over the next twenty years and beyond. With the growth in travel demand, there will be an increase in travel delays arising from the growing congestion on California's highways and at airports. In addition, there will be negative effects on the economy, quality of life, and air quality in and around California's metropolitan areas from an increasingly congested transportation system that will become less reliable as travel demand increases. The intercity highway system, commercial airports, and conventional passenger rail serving the intercity travel market are currently operating at or near capacity, and will require large public investments for maintenance and expansion to meet existing demand and future growth. The proposed HST system is designed to address some of the social, economic and environmental problems associated with transportation congestion in California.

Alternatives: The Fresno to Bakersfield HST Project EIR/EIS will consider a No Action or No Project Alternative and an HST Alternative for the Fresno to Bakersfield section.

No Action Alternative: The No Action Alternative (No Project or No Build) represents the conditions in the corridor as it existed in 2009, and as it would exist based on programmed and funded improvements to the intercity transportation system and other reasonably foreseeable projects through 2035, taking into account the following sources of information: the State Transportation Improvement Program (STIP), Regional Transportation Plans (RTPs) for all modes of travel, airport plans, intercity passenger rail plans, and city and county plans.

HST Alternative: The Authority proposes to construct, operate, and maintain an electric-powered steel-wheel-on-steel-rail HST System, about 800 miles long, capable of operating speeds of 220 mph on dedicated, fully grad-separated tracks, with state-of-the-art safety, signaling, and automated train control systems. The BNSF alignment from Fresno to Bakersfield was selected with the Statewide Program EIR/EIS. As defined in the Statewide Program EIR/EIS, this alignment would utilize the UPRR corridor through the urban area of Fresno, and would require a new high-speed alignment around the city of Hanford. Alignment alternatives will also be evaluated to serve a potential station in the Visalia/Hanford/Tulare area. The HST would operate in this area at speeds up to 220 mph on tracks separate from the existing BNSF tracks. Engineering studies to be undertaken as part of this EIR/EIS process will examine and refine alignments in the BNSF corridor. The entire alignment would be grade separated from existing roadways. In addition, alternative sites for right-of-way maintenance, train storage facilities, and a light or heavy maintenance and repair facility will be evaluated in the Fresno to Bakersfield HST project area.

The two preferred station locations selected by the Authority and FRA through the Statewide Program EIR/EIS will be evaluated in the Fresno to Bakersfield HST Project EIR/EIS. These stations are downtown Fresno and downtown Bakersfield. Alternative station sites at or near the selected station locations may be identified and evaluated. A potential station in the Visalia/Hanford/Tulare area will also be evaluated in this Project EIR/EIS.

Probable Effects: The purpose of the EIR/EIS process is to explore, in a public setting, the effects of the proposed project on the physical, human, and natural environment. The FRA and the Authority will continue the tiered evaluation of all significant environmental, social, and economic impacts of the construction and operation of the HST System. Impact areas to be addressed include transportation impacts; safety and security; land use and zoning; land acquisition, displacements, and relocations; agricultural land impacts; cumulative and secondary impacts; cultural resource impacts, including impacts on historical and archaeological resources and parklands/recreation areas; neighborhood compatibility and environmental justice; and natural resource impacts including air quality, wetlands, water resources, noise, vibration, energy, wildlife and ecosystems, including endangered species. Measures to avoid, minimize, and mitigate adverse impacts will be identified and evaluated.

The Fresno to Bakersfield HST Project EIR/EIS will be prepared in accordance with FRA's Procedures for Considering Environmental Impacts (64 FR 28545 May 26, 1999) and will address not only NEPA and CEQA but will also address as necessary other applicable statutes, regulations, and executive orders, including the Clean Air Act, section 404 of the Clean Water Act, section 106 of the National Historic Preservation Act of 1966, section 4(f) of the Department of Transportation Act, the Endangered Species Act, and Executive Order 12898 on Environmental Justice. This EIR/EIS process will also continue the NEPA/Clean Water Act section 404 integration process established through the Statewide Program EIR/EIS process. The EIR/EIS will evaluate project alignment alternatives, and station and maintenance facility locations to support a determination of the Least Environmentally Damaging Practicable Alternative (LEDPA) by the U.S. Army Corps of Engineers.

Comments: FRA encourages broad participation in the EIS process and review of the resulting environmental documents. Comments are invited from all interested agencies and the public to ensure the full range of issues related to the proposed action and reasonable alternatives are addressed and all significant issues are identified. In particular, FRA is interested in learning whether there are areas of environmental concern where there might be a potential for significant site-specific impacts from the Fresno-Bakersfield section of the HST system. Public agencies with jurisdiction are requested to advise FRA and the Authority of the applicable permit and environmental review requirements of each agency, and the scope and content of the environmental information that is germane to the agency's statutory responsibilities in connection with the proposed project. Public agencies are requested to advise FRA if they anticipate taking a major action in connection with the proposed project and if they wish to cooperate in the preparation of the Project EIR/EIS.

Public scoping meetings were held in March 2009 for the Merced to Bakersfield HST Project EIR/EIS and are an important component of the scoping process for the Fresno to Bakersfield HST Project EIR/EIS for both the State and Federal environmental review. FRA is seeking participation and input of all interested Federal, State, and local agencies, Native American groups, and other concerned private organizations or individuals on the scope of the EIR/EIS. Implementation of the Fresno to Bakersfield section of the HST System is a Federal undertaking with the potential to affect historic properties. As such, it is subject to the requirements of section 106 of the National Historic Preservation Act of 1966 (16 U.S.C. 470f). In accordance with regulations issued by the Advisory Council on Historic Preservation, 36 CFR part 800, FRA intends to coordinate compliance with section 106 of this Act with the preparation of the EIR/EIS, beginning with the identification of consulting parties in a manner consistent with the standards set out in 36 CFR 800.8.

Issued in Washington, DC, on September 25, 2009.
Mark E. Yachmetz,
Associate Administrator for Railroad Development, Federal Railroad Administration.

[FR Doc. E9-23749 Filed 9-30-09; 8:45 am]

BILLING CODE 4910-06-P